OFFICE OF PERSONNEL MANAGEMENT

5 CFR Part 870

RIN 3206-AM98

Federal Employees' Group Life Insurance Program: Election Opportunities for Pathways Participants

AGENCY: U.S. Office of Personnel Management.

ACTION: Interim Final Rule with request for comments.

SUMMARY: The U.S. Office of Personnel Management (OPM) is issuing an interim final regulation to update the Federal Employees' Group Life Insurance (FEGLI) regulations to reflect updated election opportunities for participants in the Pathways Programs, which were designed to promote employment for students and recent graduates in the Federal workforce through internships with Federal agencies.

DATES: This interim final rule is effective February 5, 2014. Comments are due on or before March 7, 2014.

FOR FURTHER INFORMATION CONTACT: Ronald Brown, Policy Analyst, (202)606-0004, or by email to Ronald.Brown@opm.gov.

SUPPLEMENTARY INFORMATION: OPM is issuing an interim final regulation to reflect the FEGLI election opportunities authorized by Executive Order (E.O.) 13562 signed by the President on December 27, 2010. E.O. 13562 established the Internship Program and the Recent Graduates Program, which, along with the Presidential Management Fellows Program, as modified therein, became the Pathways Programs. This interim final rule updates 5 CFR 870.302(b)(2) to allow FEGLI election opportunities for participants in the Pathways Programs as authorized by the final rule: “Excepted Service, Career and Career-Conditional Employment; and Pathways Programs,” 77 FR 28193 (May 11, 2012).

Changes

Students hired under an Internship Program, Recent Graduate Program, or Presidential Management Fellows (PMF) Program, collectively known as the Pathways Programs, and who are employed in an appointment for a period expected to last longer than 1 year are eligible for life insurance coverage, as long as they are expected to be in a pay status for at least one-third of the total period of time from the date of their initial appointment to the date of the completion of the Program. The regulations are being changed to reflect this enrollment opportunity. This change can be found in section 870.302(b)(2).

Waiver of Proposed Rulemaking

OPM has determined that it would be impracticable, unnecessary, and contrary to the public interest to delay putting the provisions of this interim final regulation in place until a public notice and comment process has been completed. Under section 553(b) of the Administrative Procedure Act (APA) (5 U.S.C. 551 et seq.) a general notice of proposed rulemaking is not required when an agency, for good cause, finds that notice and public comment thereon are impracticable, unnecessary, or contrary to the public interest. The FEGLI elections authorized by E.O. 13562 for students and recent graduates require immediate implementation to protect available election opportunities for enrollees and their eligible dependents.

Regulatory Flexibility Act

I certify that this regulation will not have a significant economic impact on a substantial number of small entities because the regulation only affects life insurance benefits of Federal employees and retirees.

Executive Order 12866, Regulatory Review

This rule has been reviewed by the Office of Management and Budget in accordance with Executive Order 12866.

List of Subjects in 5 CFR Part 870

Administrative practice and procedure, Government employees, Life insurance, Retirement.

U.S. Office of Personnel Management.
Katherine Archuleta,
Director.

Accordingly, OPM is amending 5 CFR part 870 as follows:

PART 870—FEDERAL EMPLOYEES' GROUP LIFE INSURANCE PROGRAM

1. The authority citation for 5 CFR part 870 is revised to read as follows:

Authority: 5 U.S.C. 8716; Subpart J also issued under section 599C of Pub. L. 101-513, 104 Stat. 2064, as amended; Sec. 870.302(a)(3)(ii) also issued under section 153 of Pub. L. 104-134, 110 Stat. 1321; Sec. 870.302(a)(3) also issued under sections 11202(f), 11232(e), and 11246(b) and (c) of Pub. L. 105-33, 111 Stat. 251, and section 7(e) of Pub. L. 105-274, 112 Stat. 2419; Sec. 870.302(a)(3) also issued under section 145 of Pub. L. 106-522, 114 Stat. 2472; Secs. 870.302(b)(8), 870.601(a), and 870.602(b) also issued under Pub. L. 110-279, 122 Stat. 2604.

Subpart C—Eligibility

2. Section 870.302(b)(2) is revised to read as follows:

§ 870.302 Exclusions.

* * * * *

(b) * * *

(2) An employee who is employed for an uncertain or purely temporary period, who is employed for brief periods or intervals, or who is expected to work less than 6 months in each year. Exception: an employee who receives an appointment of at least 1 year's duration as an Intern under § 213.3402(a) of this chapter and who is expected to be in a pay status for at least one-third of the total period of time from the date of the first appointment to the completion of the work-study program.

* * * * *

[FR Doc. 2013-31505 Filed 1-3-14; 8:45 am]

BILLING CODE 6325-39-P